DEPARTMENT OF AGRICULTURE

Agricultural Marketing Service

[Docket No. FV-01-369-EXT.]

Fruit and Vegetable Industry Advisory Committee

AGENCY: Agricultural Marketing Service

ACTION: Notice to re-open the nomination date.

SUMMARY: The U.S. Department of Agriculture (USDA) has established the Fruit and Vegetable Industry Advisory Committee (Committee). The purpose of the Committee is to review the full spectrum of issues faced by the fruit and vegetable industry and provide suggestions and ideas to the Secretary of Agriculture on how USDA can tailor its programs to meet the fruit and vegetable industry's needs. USDA seeks nominations of individuals to be considered for selection as Committee members. The unprecedented terrorist attacks on September 11, 2001 in Washington DC and New York disrupted mail services throughout the country. Therefore, USDA has established a new due date for submission of nominations.

DATES: Written nominations must be received on or before October 9, 2001.

ADDRESSES: Nominations should continue to be sent to Mr. Robert C. Keeney, Deputy Administrator, Fruit and Vegetable Programs, AMS, USDA, Room 2077 South Building, P.O. Box 96456, Washington, DC 20090-6456. For assistance call (202) 720-4722, e-mail—robert.keeney@usda.gov.

SUPPLEMENTARY INFORMATION: No changes have been made to the register request except a revision of the nomination date. Membership will consist of twenty (20) members who represent the fruit and vegetable industry and will include; six (6) representatives of fresh fruit and vegetable growers/shippers; four (4) representatives of fresh fruit and vegetable wholesalers; two (2) representatives of brokers; two (2) representatives of retailers; two (2) representatives of fruit and vegetable processors; two (2) representatives of foodservice suppliers; one (1) state department of agriculture official; and one (1) trade association representative.

The Secretary of Agriculture invites those individuals, organizations, and groups affiliated with the categories listed above to nominate individuals for membership on the Committee. Nominations should describe and document the proposed member's qualifications for membership to the Committee. The Secretary of Agriculture seeks a diverse group of members representing a broad spectrum of persons interested in providing suggestions and ideas on how USDA can tailor its programs to meet the fruit and vegetable industry's needs.

Individuals receiving nominations will be contacted and biographical information must be completed and returned to USDA within 10 working days of notification, to expedite the security clearance process that is required before selection by the Secretary of Agriculture.

Equal opportunity practices will be followed in all appointments to the Committee in accordance with USDA policies. To ensure that the recommendations of the Committee have taken into account the needs of the diverse groups served by USDA, membership shall include, to the extent practicable, individuals with demonstrated ability to represent minorities, women, persons with disabilities, and limited resource agriculture producers.

Dated: October 2, 2001.
Kenneth C. Clayton,
Associate Administrator, Agricultural Marketing Service.

[FR Doc. 01-25197 Filed 10-3-01; 11:54 am]

BILLING CODE 3410-02-P